DEPARTMENT OF COMMERCE

National Oceanic and Atmospheric Administration

Call for Applications for Representatives to the Coral Reef Ecosystem Reserve Council for the Northwestern Hawaiian Islands Coral Reef Ecosystem Reserve

AGENCY: National Marine Sanctuary Program (NMSP), National Ocean Service (NOS), National Oceanic and Atmospheric Administration, Department of Commerce (DOC).

ACTION: Notice and request for applications.

SUMMARY: On December 4, 2000, President William Jefferson Clinton signed Executive Order 13178 establishing the Northwestern Hawaiian Islands Coral Reef Ecosystem Reserve (Reserve). The President's Executive Order requires the Secretary of Commerce or his or her designee (hereafter “Secretary”) to establish a Coral Reef Ecosystem Reserve Council (Reserve Council) to provide advice and recommendations on the development of the Reserve Operations Plan and the designation and management of a Northwestern Hawaiian Islands National Marine Sanctuary by the Secretary. The Secretary, through the National Marine Sanctuary Program (NMSP), is seeking applicants for membership on the Reserve Council.

DATES: Completed applications must be postmarked no later than December 29, 2000.

ADDRESSES: Application kits may be obtained from Elizabeth Moore, National Marine Sanctuary System, 1305 East West Highway, N/ORM6, Room 11642, Silver Spring, Maryland, 20910, or online at: http://hawaiireef.noaa.gov.

Completed applications should be sent to the same address as above.

FOR FURTHER INFORMATION CONTACT: Elizabeth Moore at (301) 713-3125 x170, or hawaiicouncil@noaa.gov, or visit the web site at: http://hawaiireef.noaa.gov.

SUPPLEMENTARY INFORMATION: On December 4, 2000, President William Jefferson Clinton signed Executive Order 13178 establishing the Northwestern Hawaiian Islands Coral Reef Ecosystem Reserve, pursuant to the National Marine Sanctuaries Amendments Act of 2000. The Reserve encompasses an area of the marine waters and submerged lands of the Northwestern Hawaiian Islands, extending approximately 1200 nautical miles long and 100 nautical miles wide. The Reserve is adjacent to and seaward of the seaward boundary of Hawaii State waters and submerged lands and the Midway Atoll National Wildlife Refuge, and includes the Hawaiian Islands National Wildlife Refuge to the extent it extends beyond Hawaii State waters and submerged lands. The Reserve will be managed by the Secretary of Commerce pursuant to the National Marine Sanctuaries Act and the Executive Order. The Secretary will also initiate the process to designate the Reserve as a National Marine Sanctuary. The management principles and implementation strategy and requirements for the Reserve are found in the Executive Order, which is part of the application kit and can be found on the web site listed above.

In designating the Reserve, President Clinton directed the Secretary of Commerce to establish a Coral Reef Ecosystem Reserve Council, pursuant to section 315 of the National Marine Sanctuaries Act, to provide advice and recommendations on the development of the Reserve Operations Plan and the designation and management of a Northwestern Hawaiian Islands National Marine Sanctuary by the Secretary. The National Marine Sanctuary Program (NMSP) is seeking applicants for the following seats on the Reserve Council:

• Three Native Hawaiian representatives, including one Native Hawaiian elder, with experience or knowledge regarding Native Hawaiian subsistence, cultural, religious, or other activities in the Northwestern Hawaiian Islands.

• Three representatives from the non-Federal science community with experience specific to the Northwestern Hawaiian Islands and with expertise in at least one of the following areas:

A. Marine mammal science

B. Coral reef ecology.

C. Native marine flora and fauna of the Hawaiian Islands.

D. Oceanography.

E. Any other scientific discipline the Secretary determines to be appropriate.

• Three representatives from non-governmental wildlife/marine life, environmental, and/or conservation organizations.

• One representative from the commercial fishing industry that conducts activities in the Northwestern Hawaiian Islands.

• One representative from the recreational fishing industry that conducts activities in the Northwestern Hawaiian Islands.

• One representative from the ocean-related tourism industry.

• One representative from the non-Federal community with experience in education and outreach regarding marine conservation issues.

• One citizen-at-large representative.

The Reserve Council shall also include one representative from the State of Hawaii as appointed by the Governor; the manager of the Hawaiian Islands Humpback Whale National Marine Sanctuary as a non-voting member; and one representative each, as non-voting members, from the Department of the Interior, Department of State, National Marine Fisheries Service, Marine Mammal Commission, U.S. Coast Guard, Department of Defense, National Science Foundation, and the Western Pacific Regional Fishery Management Council. The non-voting representatives will be chosen by the agencies and other entities, respectively. The charter for the Council can be found in the application kit, or on the web site listed above.

Applicants are chosen based upon their particular expertise and experience in relation to the seat for which they are applying; community and professional affiliations; and philosophy regarding the conservation and management of marine resources. Applicants who are chosen as members should expect to serve three-year terms, pursuant to the Council's charter. Persons who are interested in applying for membership on the Council may obtain an application from either the person or website identified above. Completed applications must be sent to the address listed above and postmarked no later than December 29, 2000.

Authority: 16 U.S.C. Section 1431 et seq.; Pub. L. 106-513.

(Federal Domestic Assistance Catalog Number 11.429 Marine Sanctuary Program)
John Oliver,
Chief Financial Officer, National Ocean Service.

[FR Doc. 00-31168 Filed 12-6-00; 8:45 am]

BILLING CODE 3510-08-P